DEPARTMENT OF DEFENSE

Department of the Army

Availability for Non-Exclusive, Exclusive, or Partially Exclusive Licensing of U.S. Patent Application Concerning Method for Self-Detection of Pupillary Response

AGENCY: Department of the Army, DoD.

ACTION: Notice.

SUMMARY: In accordance with 37 CFR 404.6, announcement is made of the availability for licensing of U.S. Patent Application No. 60/278,615 entitled “Method for Self-Detection of Pupillary Response” filed March 26, 2001. The United States Government as represented by the Secretary of the Amy has rights in this invention.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664. Both at telefax (301) 619-5034.

SUPPLEMENTARY INFORMATION: A method for self-detection of exposure to organophosphates includes (a) providing a device for monitoring pupillary response; (b) switching the device on and placing the eyeglass cup over the eye to be tested; (c) blocking light from entering the other eye; and (d) observing whether or not the pupil in the eye to be tested dilates. The device for monitoring papillary response includes a housing; an eyeglass cup attached to the housing, the eyeglass cup including an insert tower and a glass aperture disposed on an end of the insert tower; a power supply disposed in the housing; a light source connected to the power supply; and a switch for controlling power to the light source.

Luz D. Ortiz,
Army Federal Register Liaison Officer.

[FR Doc. 02-3085 Filed 2-7-02; 8:45 am]

BILLING CODE 3710-08-M